NATIONAL SCIENCE FOUNDATION

Proposal Review Panel for Physics; Notice of Meeting

In accordance with the Federal Advisory Committee Act (Pub. L. 92-463, as amended), the National Science Foundation (NSF) announces the following meeting:

Name and Committee Code: Proposal Review Panel for the Division of Physics (1208)—University of New Mexico Site Visit.

Date and Time: May 7, 2018; 8:30 a.m.-7:00 p.m.; May 8, 2018; 8:30 a.m.-4:00 p.m.

Place: University of New Mexico, 1919 Lomas Blvd. NE, Albuquerque, NM 87131.

Type of Meeting: Part-Open.

Contact Person: Dr. Michael Cavagnero, Program Director for Atomic Theory, Division of Physics, National Science Foundation, 2415 Eisenhower Avenue, Room W 9216, Alexandria, VA 22314; Telephone: (703) 292-2163.

Purpose of Meeting: Site visit to provide an evaluation of the progress of the projects at the host site for the Division of Physics at the National Science Foundation.

Agenda

May 7, 2018

8:30 a.m.-8:45 a.m. Coffee

8:45 a.m.-9:00 a.m. Executive Session—CLOSED

9:00 a.m.-10:30 a.m. CQuIC Report

10:30 a.m.-10:45 a.m. Break

10:45 a.m.-12:15 p.m. Science Presentations

12:15 p.m.-1:45 p.m. Lunch (with Post Docs)—CLOSED

1:45 p.m.-4:30 p.m. Post Doc Presentations

4:30 p.m.-5:15 p.m. Executive Session—CLOSED

5:15 p.m.-6:45 p.m. Poster Session

6:45 p.m. Dinner—CLOSED

May 8, 2018

8:30 a.m.-9:00 a.m. Coffee

9:00 a.m.-12:00 p.m. Panel Queries—CLOSED

12:00 p.m.-1:30 p.m. Lunch

1:30 p.m.-2:00 p.m. Carlton Caves—CLOSED

2:00 p.m.-2:15 p.m. Break

2:15 p.m.-4:00 p.m. Report Writing—CLOSED

4:00 p.m. Adjourn

Reason for Closing: The work being reviewed during closed portions of the site visit include information of a proprietary or confidential nature, including technical information; financial data, such as salaries and personal information concerning individuals associated with the program. These matters are exempt under 5 U.S.C. 552b(c), (4) and (6) of the Government in the Sunshine Act.

Dated: April 11, 2018.
Crystal Robinson,
Committee Management Officer.

[FR Doc. 2018-07857 Filed 4-13-18; 8:45 am]

BILLING CODE 7555-01-P